ENVIRONMENTAL PROTECTION AGENCY

[FRL-6716-1]

New York State Prohibition on Marine Discharges of Vessel Sewage; Notice of Final Affirmative Determination

Notice is hereby given that a final affirmative determination has been made by the Regional Administrator, Environmental Protection Agency (EPA), pursuant to Section 312(f) of Public Law 92-500, as amended by Public Law 95-217 and Public Law 100-4 (the Clean Water Act), that adequate facilities for the safe and sanitary removal and treatment of sewage from all vessels are reasonably available for the waters of the Greater Huntington-Northport Bay Complex, County of Suffolk, State of New York. The waterbodies included in this determination are Lower Huntington Bay, Northport Bay, Centerport Harbor, Northport Harbor, Duck Island Harbor and Price Bend. A Notice of Receipt of Petition and Tentative Determination was published in the Federal Register on April 3, 2000 and public comments regarding the tentative determination were accepted through May 3, 2000. No comments were received by EPA as of May 15, 2000.

This petition was made by the New York State Department of Environmental Conservation (NYSDEC) in cooperation with the Town of Huntington. Upon receipt of this affirmative determination, NYSDEC will completely prohibit the discharge of sewage, whether treated or not, from any vessel in Greater Huntington-Northport Bay Complex in accordance with Section 312(f)(3) of the Clean Water Act and 40 CFR 140.4(a).

The Greater Huntington-Northport Bay Complex is located on the north shore of Long Island with approximately 64 miles of tidal shoreline contiguous to Long Island Sound. Huntington's marine waters are comprised of approximately 8,000 acres of harbors, bays and tidal wetlands that support some of the most productive shellfish growing lands in New York State. Adjacent shores also serve as private and public bathing beaches. The northern boundary line for the No Discharge Area (NDA) shall extend from the southernmost point at East Beach (Lloyd Harbor) easterly to the southernmost point at West Beach or “Sand City Beach”.

Information submitted by the State of New York and the Town of Huntington indicate that there are ten existing pumpout facilities and two pumpout boats available to service vessels which use the Greater Huntington-Northport Bay Complex. Mill Dam Marina (Huntington Harbor), located on Mill Dam Road, Huntington, operates a pumpout. The pumpout is available 24 hours a day beginning May 1 through October 31 and is self-service. No fee is charged for the use of the pumpout. Halesite Marina (Huntington Harbor), located on Route 110, Halesite, operates a pumpout. The pumpout is available 24 hours a day and twelve months a year and is self-service. No fee is charged for the use of the pumpout. South Town Dock (Huntington Harbor), located on Route 110, Halesite, operates a pumpout. The pumpout is available from 8:00 a.m. to 8:00 p.m. beginning May 1 through October 31 and is self-service. No fee is charged for the use of the pumpout. Gold Star Mooring and Launch Service (Huntington Harbor), located at West Shore Road and Browns Road, Huntington, operates a pumpout. The pumpout is available from 8:00 a.m. to 8:00 p.m. beginning April 1 through November 15 and is self-service. No fee is charged for the use of the pumpout. West Shore Marina (Huntington Harbor), located at 100 West Shore Road, Huntington, operates a pumpout. The pumpout is available by appointment only from 10 a.m. to 4 p.m. year round. A $10.00 fee is charged for the use of the pumpout. Huntington Yacht Club (Huntington Harbor), located at 95 East Shore Road, Huntington Bay, operates a pumpout. The pumpout is available from 9:00 a.m. to 5:00 p.m. beginning March 1 through November. A fee of $5.00 is charged for the use of the pumpout. Knutson's West Marine (Huntington Harbor), located at 41 East Shore Road, Halesite, operates a pumpout. The pumpout is available from 8:00 a.m. to 6:00 p.m. beginning May 30 through October 31. A fee of $10.00 is charged for the use of the pumpout. The Town of Huntington operates a mobile pumpout vessel which serves the Greater Bay Complex from May 15 through October 12. No fee is charged for the service. The Town of Huntington is in the process of procuring an additional mobile pumpout vessel. Woodbine Marina (Northport Harbor), located at Woodbine Avenue, Northport, operates a pumpout. The pumpout is available 24 hours a day beginning May 1 through October 31 and is self-service. No fee is charged for the use of the pumpout. Seymour's Boat Yard (Northport Harbor), located on Bayview Avenue, Northport, operates a pumpout. The pumpout is available from 8:00 a.m. to 4:30 p.m. by appointment beginning May 1 through October 31. A fee of $25.00 is charged for the use of the pumpout. Brittania Yacht and Racquet Club (Northport Harbor), located at 81C Fort Salonga Road, Northport, operates a pumpout. The pumpout is available from 8:00 a.m. to 4:30 p.m. beginning April 15 through October 31. A fee of $20.00 is charged for the use of the pumpout. The Village of Northport operates a mobile pumpout vessel which serves Northport Harbor, Northport Bay and Duck Island Harbor beginning May 23 through October 12. No fee is charged for the service. Powles Marine Agency (Cold Spring Harbor), located at 74 Harbor Road, Cold Spring Harbor, operates a pumpout. The pumpout is available 24 hours a day beginning May 1 through October 31 and is self-service. No fee is charged for the use of the pumpout. This facility is located outside of the proposed NDA and is not included as one of the ten landside facility. The facility has been included in the application for information purposes.

Vessel waste generated from the pumpout facilities located at West Shore Marina, Knutson's West Marina, Huntington Yacht Club, Brittania Yacht and Seymour's are hauled by privately operated waste haulers. The Town of Huntington provides waste hauling service to the municipally owned pumpout facilities located at Cold Spring Harbor, Halesite Marina, Mill Dam Marina, Woodbine Marina, and Gold Star Mooring and Launch Service. All hauled waste from the pumpout facilities is discharged into and treated at the Town of Huntington sewage treatment plant (SPDES Permit No. NY0021342) located on Creek Road in Halesite.

According to the State's petition, the maximum daily vessel population for the waters of Greater Huntington-Northport Bay Complex is approximately 3200 vessels which are docked or moored with an additional 700 vessels accessing the greater harbor from boat ramps. An inventory was developed including the number of recreational, commercial and estimated transient vessels that occupy or traverse the Greater Bay complex. This estimate is based on (1) vessels (approximately 1600 vessels) docked or moored (including transients) in the proposed NDA, (2) vessels (approximately 1600 vessels) docked or moored (including transients) in the existing Huntington/Lloyd Harbor NDA and (3) vessels (approximately 700 vessels) which use the boat ramps in the Greater Bay Complex. While approximately one-third to one-half of the vessels operating in the Greater Bay Complex are not equipped with a marine sanitation device, the ratio of boats to pumpout facilities has been based on the total number of vessels which could be expected. With ten shore-side pumpout facilities and two pumpout facilities available to boaters, the ratio of docked or moored boats (including transients) is approximately 267 vessels per pumpout. If we include the vessels (approximately 700) using the available boat ramps, the ratio increase to 325 vessels per pumpout. Standard guidelines refer to acceptable ratios failing in the range of 300 to 600 vessels per pumpout.

A previous application which was approved by the Regional Administrator on April 21, 1994 designated Huntington Harbor and Lloyd Harbor as a NDA. Responses to comments were prepared and mailed to interested parties on April 21, 1994, along with a copy of the final determination. These two final determinations designate the entire Greater Huntington-Northport Harbor Complex as a NDA. The northern boundary line for the NDA extends from the southernmost point at East Branch (Lloyd Harbor) easterly to the southernmost point at West Beach or “Sand City Beach”.

The EPA hereby makes a final affirmative determination that adequate facilities for the safe and sanitary removal and treatment of sewage from all vessels are reasonably available for the Greater Huntington-Northport Bay Complex in the county of Suffolk, New York. This final determination on this matter will result in a New York State prohibition of any sewage discharges from vessels in Greater Huntington-Northport Bay Complex.

Dated: May 31, 2000.
William J. Muszynski,
Acting Regional Administrator, Region II.

[FR Doc. 00-15028 Filed 6-13-00; 8:45 am]

BILLING CODE 6560-50-U